DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS) (last amended at 75 FR 14176-14178, dated March 24, 2010), is amended to reflect the abolishment of the Office of External Affairs and Beneficiary Services and the establishment of the Office of Public Engagement and the Office of Communications.

The specific amendments to part F are described below:

(1) Under Part F, CMS, Office of the Administrator, FC. 10 Organizations, delete the Office of External Affairs and Beneficiary Services (FCB) and insert the following Office of Public Engagement (FCS) and the Office of Communications (FCT) after the Chief Operating Officer.

(2) Under Part F, CMS, FC. 20 Functions, delete the description of the Office of External Affairs and Beneficiary Services (FCB) and insert the following descriptions of the Office of Public Engagement (FCS) and the Office of Communications (FCT):

Office of Public Engagement (FCS)

• Serves as CMS' focal point for outreach to beneficiaries and partners, provides leadership for CMS in the areas of Medicare Ombudsman activities, partnerships with providers and stakeholders, and tribal affairs. Advises the Administrator and other CMS components in all activities related to these functions and on matters that affect other units and levels of government.

• Formulates and implements a customer service plan that serves as a roadmap for the effective treatment and advocacy of customers and the quality of information provided to them.

• Coordinates a State and local program of counseling assistance for people with Medicare and their families through the administration of grants to State Health Insurance Assistance Program (SHIP), implementation of continuous quality improvement activities, ongoing performance measurement, and regular communication with SHIP grantees.

• Contributes to the formulation of policies, programs, and systems as well as oversees beneficiary services and tribal affairs, including CMS' Ombudsman program, partner and provider relations, and program training. Coordinates with the Office of Legislation on the development and advancement of new legislative initiatives and improvements.

• Oversees all CMS interactions and collaboration with stakeholders relating to beneficiary services including but not limited to external advocacy groups, Medicare beneficiary customer service, Native American and Alaskan Native tribes, HHS, the White House, other CMS components, and other Federal government entities.

• Liaison between CMS and AI/AN communities including tribal leaders, health providers, beneficiaries and other Federal Agencies in regards to AI/AN health and CMS programs.

• Oversees all CMS interactions and collaborations with key stakeholders (external advocacy groups, contractors, local and State governments, HHS, the White House, other CMS components, and other Federal entities) related to the Medicare and Medicaid and other Agency programs.

• Coordinates stakeholder relations, community outreach, and public engagement with the CMS Regional Offices.

• Directs and administers CMS' programs for emergency preparedness and continuity of operations. Provides direction for all essential on-site services for Central Office and consultation and direction to Consortia/Regional Offices with respect to these programs.

Office of Communications (FCT)

• Serves as CMS' focal point for strategic and tactical communications—internal and external—providing leadership for CMS in the areas of traditional and new media, including Web initiatives such as social media supported by innovative, increasingly mobile technologies; media relations; public information campaigns; and speechwriting.

• Serves as CMS' focal point in all activities related to the media. Provides consultation, advice, and training to CMS' senior staff with respect to relations with the news media.

• Coordinates with external partners including the Department of Health and Human Services (HHS) and the White House on key communication and public engagement initiatives, leveraging CMS resources to strategically support these activities.

• Contributes to the formulation of policies, programs, and systems as related to strategic and tactical communications.

• Coordinates with the Office of Legislation on the development and advancement of new legislative initiatives and improvements.

• Oversees communications research, design and development, evaluation and continuous improvement activities to improving internal and external communication tools, including but not limited to brochures, public information campaigns, handbooks, Web sites, reports, presentations/briefings.

• Identifies communication best practices for the benefit of CMS beneficiaries (i.e., of the Medicare and Medicaid programs) and other CMS customers.

• Contributes to the formulation of policies, programs, and systems as well as oversees beneficiary services provided by the beneficiary call centers. Serves as CMS' focal point for telephone services to beneficiaries, and provides leadership for CMS in the area of call center operations.

(Authority: 44 U.S.C. 3101)

Dated: March 27, 2011.
Marilyn Tavenner,
Principal Deputy Administrator and Chief Operating Officer, Centers for Medicare & Medicaid Services.

[FR Doc. 2011-9439 Filed 4-18-11; 8:45 am]

BILLING CODE 4120-01-P